DEPARTMENT OF EDUCATION

[CFDA No. 84.326T]

National Technical Assistance and Dissemination Center for Children Who Are Deaf-Blind; Proposed Extension of Project Period and Waiver

AGENCY: Office of Special Education Programs, Office of Special Education and Rehabilitative Services, Department of Education.

ACTION: Notice of proposed extension of project period and waiver for the National Technical Assistance and Dissemination Center for Children Who Are Deaf-Blind.

SUMMARY: The Secretary proposes to waive the requirements in the Education Department General Administrative Regulations (EDGAR), in 34 CFR 75.250 and 75.261(a) and (c), respectively, that generally prohibit project periods exceeding five years and extensions of project periods involving the obligation of additional Federal funds. This extension of project period and waiver would enable the currently funded National Technical Assistance and Dissemination Center for Children Who Are Deaf-Blind to receive funding from October 1, 2011 through September 30, 2013.

DATES: We must receive your comments on or before July 7, 2011.

ADDRESSES: Address all comments about this proposed extension of project period and waiver to Ingrid Oxaal, U.S. Department of Education, 400 Maryland Avenue, SW., room 4154, Potomac Center Plaza, Washington, DC 20202-2600.

If you prefer to send your comments by e-mail, use the following address: ingrid.oxaal@ed.gov. You must include the phrase “proposed extension of project period and waiver” in the subject line of your message.

FOR FURTHER INFORMATION CONTACT: Ingrid Oxaal at the address listed in the ADDRESSES section of this notice. Telephone: (202) 245-7471. If you use a telecommunications device for the deaf (TDD), call the Federal Relay Service (FRS), toll-free, at 1-800-877-8339.

Individuals with disabilities can obtain this document in an accessible format (e.g., braille, large print, audiotape, or computer diskette) on request to the contact person listed in this section.

Invitation to Comment

We invite you to submit comments regarding this proposed extension of project period and waiver.

During and after the comment period, you may inspect all public comments about this proposed extension of project period and waiver in room 4154, Potomac Center Plaza, 550 12th Street, SW., Washington, DC, between the hours of 8:30 a.m. and 4:00 p.m., Washington, DC time, Monday through Friday of each week except Federal holidays.

Assistance to Individuals With Disabilities in Reviewing the Rulemaking Record

On request, we will supply an appropriate aid, such as a reader or print magnifier, to an individual with a disability who needs assistance to review the comments or other documents in the public rulemaking record for this proposed extension of project period and waiver. If you want to schedule an appointment for this type of aid, please contact the person listed under FOR FURTHER INFORMATION CONTACT.

Background

On December 22, 2005, the Department published a notice in the Federal Register (70 FR 76039) inviting applications for new awards for fiscal year (FY) 2006 for a National Technical Assistance and Dissemination Center for Children Who Are Deaf-Blind (Center). The purpose of the Center, which was funded under the Technical Assistance and Dissemination to Improve Services and Results for Children with Disabilities (TA&D) program, authorized under section 663 of the Individuals with Disabilities Education Act (IDEA), is to provide specialized technical assistance, training, dissemination, and informational services to States, families, and agencies and organizations that are responsible for the provision of early intervention, special education, and related and transitional services for children through age 21 who are deaf-blind. For purposes of this notice, the term “individuals who are deaf-blind” refers to infants, toddlers, children, youth and young adults through age 21 who are deaf-blind.

Based on the 2005 notice inviting applications, the Department made one award for a period of 60 months to Western Oregon University to establish the Center, which is currently known as the National Consortium on Deaf-Blindness (NCDB). The major goals of the NCDB are three-fold. The first goal is to increase the capacity of State educational agencies (SEAs), local educational agencies (LEAs), early intervention programs, and other agencies to improve policies and practices that will result in appropriate assessment, planning, placement, and services for individuals who are deaf-blind. The second goal is to increase the capacity of State deaf-blind projects as well as State and local agencies to use evidence-based practices to improve outcomes for individuals who are deaf-blind. The third goal is to collaborate with Parent Training and Information Centers (PTIs) to build the capacity of families of individuals who are deaf-blind to build relationships with family, peers, service providers, employers, and others and develop their knowledge about and skills in self-advocacy and self-empowerment.

The NCDB accomplishes this mission through a combination of activities in the following areas: (1) Technical assistance to SEAs, LEAs, families, and organizations that are responsible for the provision of early intervention, special education, and related and transitional services for individuals who are deaf-blind, (2) collection and dissemination of information related to improving outcomes for individuals who are deaf-blind, and (3) training to address gaps in the knowledge of service providers, including gaps in the knowledge of evidence-based practices, to improve outcomes for individuals who are deaf-blind.

The NCDB's current project period is scheduled to end on September 30, 2011. At this time, we do not believe that it would be in the public interest to run a competition under this program for a new Center. This extension will align the end of the NCDB's project period with the end of the grants funded under the Projects for Children and Young Adults who are Deaf-Blind program (CFDA Number 84.326C). This alignment will enable the Department to develop a technical assistance strategy for individuals who are deaf-blind that maximizes the effectiveness and efficiency of the services provided. We also have concluded that it would be contrary to the public interest to have a lapse in the provision of technical assistance services currently provided by the NCDB pending the development of a coordinated strategy for technical assistance for individuals who are deaf-blind. For these reasons, the Secretary proposes to waive the requirements in 34 CFR 75.250, which prohibit project periods exceeding five years, and the requirements in 34 CFR 75.261(a) and (c), which limit the extension of a project period if the extension involves the obligation of additional Federal funds, and issue a continuation award in the amount of $4,200,000 to Western Oregon University (H326T060002) for an additional twenty-four-month period.

Waiving these regulations and issuing this continuation award would ensure that technical assistance, training, and dissemination of information to multiple recipients, including families, individuals who are deaf-blind, State projects for deaf-blind services, SEAs, LEAs, lead agencies under Part C of the IDEA, and other State agencies, will not be interrupted during this period of time.

With this proposed extension of project period and waiver, the NCDB will be required to conduct the following activities:

(a) Continue identifying State project needs in order to provide universal, targeted, and intensive technical assistance and training, as appropriate.

(b) Assist State deaf-blind projects (1) to increase collaboration among State deaf-blind projects, the PTIs, and other OSEP Technical and Assistance projects (2) to improve early intervention, instructional and behavioral practices by providing universal, targeted, and intensive technical assistance and training, as appropriate.

(c) Provide information to SEAs to aid in policy development related to services to individuals who are deaf-blind, as appropriate.

(d) Assist families and individuals who are deaf-blind to increase their capacity to build relationships with family, peers, service providers, employers, and others; and develop their knowledge about and skills in self-advocacy and self-empowerment.

(e) Assist personnel preparation training programs to work collaboratively with each other to increase the number of teachers and paraprofessionals who are prepared to provide effective services and implement evidence-based practices to improve outcomes for individuals who are deaf-blind.

(f) Collaborate with the U.S. Department of Education's Office of Special Education and Rehabilitative Services, other Federal technical assistance projects, and State agencies to improve practices and services in early intervention, special education, related services, and transitional services by facilitating inclusion of individuals who are deaf-blind in SEA and LEA initiatives, as appropriate.

Regulatory Flexibility Act Certification

The Secretary certifies that this proposed extension of project period and waiver would not have a significant economic impact on a substantial number of small entities. The only entities that would be affected are the current grantee serving as the National Consortium on Deaf-Blindness and any other potential applicant.

Paperwork Reduction Act of 1995

This proposed extension of project period and waiver does not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site. You may also access documents of the Department published in the Federal Register by using the article search feature at: http://www.federalregister.gov. Specifically, through the advanced search feature at this site, you can limit your search to documents published by the Department.

Dated: June 2, 2011.
Alexa Posny,
Assistant Secretary, for Special Education and Rehabilitative Services.

[FR Doc. 2011-14019 Filed 6-6-11; 8:45 am]

BILLING CODE 4000-01-P